DEPARTMENT OF COMMERCE

International Trade Administration

Notice of 10th Annual U.S. Industry Program at the International Atomic Energy Agency (IAEA) General Conference

AGENCY: International Trade Administration, U.S. Department of Commerce.

ACTION: Notice.

Mission Description

The United States Department of Commerce's (DOC) International Trade Administration (ITA), with participation from the U.S. Departments of Energy and State, is organizing the 10th Annual U.S. Industry Program at the International Atomic Energy Agency (IAEA) General Conference, to be held September 18-19, 2017, in Vienna, Austria. The IAEA General Conference is the premier global meeting of civil nuclear policymakers and typically attracts senior officials and industry representatives from all 162 Member States. The U.S. Industry Program is part of the U.S. Department of Commerce's (DOC) Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: Meetings with foreign delegations and discussions with senior U.S. Government officials and IAEA staff on important civil nuclear topics including regulatory, technology and standards, liability, public acceptance, export controls, financing, infrastructure development, and R&D cooperation. Past U.S. Industry Programs have included participation by the U.S. Secretary of Energy, the Chairman of the U.S. Nuclear Regulatory Commission (NRC) and senior U.S. Government officials from the Departments of Commerce, Energy, State, the U.S. Export-Import Bank and the National Security Council.

There are significant opportunities for U.S. businesses in the global civil nuclear energy market. With 60 reactors currently under construction in 15 countries and 158 nuclear plant projects planned in 27 countries over the next 8-10 years, this translates to a market demand for equipment and services totaling $500-740 billion over the next ten years. This mission contributes to DOC's Civil Nuclear Trade Initiative by assisting U.S. businesses in entering or expanding in international markets.

Mission Setting

The IAEA General Conference is the premier global meeting of civil nuclear policymakers, and typically attracts over 1,200 senior officials and industry representatives from all 162 IAEA Member States. As such, it is an opportunity to highlight the breadth and depth of the U.S. civil nuclear sector to foreign energy policymakers and potential customers. The U.S. Industry Program will provide opportunities for U.S. industry representatives to meet with U.S. Government representatives and discuss key issues of interest for civil nuclear exporters. The program will also feature briefings from foreign government representatives, providing opportunities for participants to develop contacts in potential export markets.

Mission Goals

The purpose of the U.S. Industry Program is to highlight the benefits of U.S. civil nuclear technology to foreign decision makers in key export markets and to enable representatives from the U.S. public and private sector to discuss U.S. industry's role in the safe and secure expansion of civil nuclear power worldwide. U.S. participants will also have the opportunity to network and build relationships in the global civil nuclear sector, interact with foreign government and industry officials, and learn more about current and future project opportunities. Foreign government participants will hear about the expertise that the U.S. industry has amassed in this sector and may learn how to better partner with U.S. industry on future nuclear power projects.

Mission Scenario

On Monday, September 18, trade mission participants will begin with a Policymaker's Roundtable and an interagency U.S. Government briefing featuring discussion sessions and remarks by senior officials from the U.S. Departments of Commerce, Energy and State, and the NRC. In addition, on Monday and Tuesday, meetings with foreign delegation officials from some of the top markets for U.S. civil nuclear exports will be scheduled. Approximately ten such meetings will be planned throughout the duration of the event. Throughout the weeklong conference, participants can attend IAEA side meetings using their official IAEA badges, which will be provided as part of the program.

Event Dates and Proposed Agenda

****Note that specific events and meeting times have yet to be confirmed****

Monday, September 18

7:00 a.m. Industry Program breakfast begins

8:00-9:45 a.m. U.S. Policymakers Roundtable

9:45-10:00 a.m. Break

10:00-11:00 a.m. USG Dialogue with Industry

11:00 a.m.-6:00 p.m. IAEA Side Events

11:00 a.m.-12:30 p.m. Break

12:30-6:00 p.m. Country Briefings for Industry Delegation (presented by foreign delegates)

7:30-9:30 p.m. U.S. Mission to the IAEA Reception

Tuesday, September 19

9:00 a.m.-6:00 p.m. Country Briefings for Industry (presented by foreign delegates)

10:00 a.m.-6:00 p.m. IAEA Side Event Meetings

Participation Requirements

Applicants must sign and submit a completed Trade Mission application form and satisfy all of the conditions of participation in order to be eligible for consideration. Applications will be evaluated on the applicant's ability to best satisfy the participation criteria.

A minimum of 15 and maximum of 50 companies and/or trade associations and/or U.S. academic and research institutions will be selected to participate in the mission. The Department of Commerce will evaluate applications and inform applicants of selection decisions on a rolling basis until the maximum number of participants has been selected.

Conditions for Participation

Applicants must submit a completed mission application signed by a company, trade association, or academic or research institution official, together with supplemental application materials, including adequate information on the organization's products and/or services, primary market objectives, and goals for participation. If the DOC receives an incomplete application, the DOC may reject the application, request additional information, or take the lack of information into account in its evaluation.

Each applicant must certify that their organization is not majority owned or controlled by a foreign government entity (or foreign government entities). Each applicant also must certify that the products or services it seeks to export through the mission are either produced in the United States, or, if not, marketed under the name of a U.S. firm and have demonstrable U.S. content as a percentage of the value of the finished product or service. In the case of a trade association, the applicant must certify that it will only be representing companies during the Trade Mission consistent with the domestic content criteria laid out in this section. In the case of an academic or research institution, the applicant must certify that as part of its activities at the event, it will represent the interests of the organization's staff that meet the criteria above.

Applicants must:

• Certify that the products and services that it wishes to market through the mission would be in compliance with U.S. export controls and regulations;

• Certify that it has identified any matter pending before any bureau or office in the U.S. Department of Commerce;

• Certify that it has identified any pending litigation (including any administrative proceedings) to which it is a party that involves the U.S. Department of Commerce;

• Sign and submit an agreement that it and its affiliates (1) have not and will not engage in the bribery of foreign officials in connection with a company's/participant's involvement in this mission, and (2) maintain and enforce a policy that prohibits the bribery of foreign officials; and

• Certify that it meets the minimum requirements as stated in this announcement.

Applicants from a company, organization or institution that is majority owned or controlled by a foreign government entity will not be considered for participation in the U.S. Industry Program.

Selection Criteria

Selection will be based on the following criteria:

• Suitability of the company's (or, in the case of another organization, represented companies' or constituents') products or services to each of the markets the company or organization has expressed an interest in exporting to as part of this trade mission.

• The company's (or, in the case of another organization, represented companies' or constituents') potential for business in each of the markets the company or organization has expressed an interest in exporting to as part of this trade mission, including likelihood of exports resulting from the mission.

• Consistency of the applicant company's (or, in the case of another organization, represented companies' or constituents') goals and objectives with the stated mission scope.

Referrals from political organizations and any documents containing references to partisan political activities (including political contributions) will be removed from an applicant's submission and will not be considered.

Timeframe for Recruitment and Participation

Recruitment for participation in the U.S. Industry Program as a representative of the U.S. nuclear industry will be conducted in an open and public manner, including publication in the Federal Register, posting on the DOC trade mission calendar, notices to industry trade associations and other multiplier groups. Recruitment will begin 2 weeks after publication in the Federal Register and conclude no later than July 14, 2017. The ITA will review applications and make selection decisions on a rolling basis. Applications received after July 14, 2017, will be considered only if space and scheduling permit.

Fees and Expenses

After a company or organization has been selected to participate on the mission, a payment to the DOC in the form of a participation fee is required. The fee covers ITA support to register U.S. industry participants for the IAEA General Conference Participants will be able to take advantage of discounted rates for hotel rooms.

• The fee to participate in the event is $1,600 for a large company and $1,200 for a small or medium-sized company (SME), a trade association, or a U.S. university or research institution. The fee for each additional representative (large company, trade association, university/research institution, or SME) is $900.

○ For purposes of this mission, a SME is defined as a company/organization with less than $7 million in average annual receipts and fewer than five hundred employees (Source: U.S. Small Business Administration).

• To apply to the mission, complete the trade mission application at https://emenuapps.ita.doc.gov/ePublic/TM/7R0W.

Participants selected for the Trade Mission will be expected to pay for the cost of all personal expenses, including, but not limited to, international travel, lodging, meals, transportation, communication, and incidentals, unless otherwise noted. In the event that the Mission is cancelled, no personal expenses paid in anticipation of a Trade Mission will be reimbursed. However, participation fees for a cancelled Trade Mission will be reimbursed to the extent they have not already been expended in the anticipation of the Mission.

Contacts

Jonathan Chesebro, Industry & Analysis, Office of Energy and Environmental Industries, Washington, DC, Tel: (202) 482-1297, Email: jonathan.chesebro@trade.gov.

Devin Horne, Industry & Analysis, Office of Energy and Environmental Industries, Washington, DC, Tel: (202) 482-0775, Email: devin.horne@trade.gov.

Dated: June 13, 2017.
Edward A. O'Malley,
Director, Office of Energy and Environmental Industries.

[FR Doc. 2017-12610 Filed 6-21-17; 8:45 am]

BILLING CODE 3510-DS-P